INTER-AMERICAN FOUNDATION BOARD MEETING

Sunshine Meeting Notice

TIME AND DATE: May 23, 2000, 11:30 a.m.-3:30 p.m.

PLACE: 901 N. Stuart Street, Tenth Floor, Arlington, Virginia 22203.

STATUS: Open session except for the portion specified as closed session as provided in 22 CFR Part 1004.4 (f).

MATTERS TO BE CONSIDERED: Approval of the Minutes of the January 31, 2000, Meeting of the Board of Directors

Discussion of Fiscal Year 1999 Grant Results Report

Discussion of Fiscal Year 2000 Programs and Operations

Report on Congressional Activities

Closed Session To Discuss Personnel Issues. Closed session as provided in 22 CFR Part 1004.4 (f).

CONTACT PERSON FOR MORE INFORMATION: Adolfo A. Franco, Secretary to the Board of Directors, (703) 306-4325.

Dated: April 12, 2000.
Adolfo A. Franco,
Sunshine Act Officer.

[FR Doc. 00-10364 Filed 4-21-00; 12:52 pm]

BILLING CODE 7025-01-U